DEPARTMENT OF LABOR

Office of the Secretary

Submission for OMB Review: Comment Request

July 23, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Lead in General Industry (29 CFR 1910.1025)

OMB Control Number: 1218-0092.

Affected Public: Business or other for-profits.

Estimated Number of Respondents: 61,405.

Estimated Total Annual Burden Hours: 1,225,255.

Estimated Total Annual Costs Burden (excludes hourly wage costs): $143,566,299.

Description: The purpose of the Lead in General Industry standard and its information collection requirements is to provide protection for employees from the adverse effects associated with occupational exposure to the carcinogen lead. Employers must monitor exposure to lead, provide medical surveillance, train employers about the hazards of lead, and establish and maintain accurate records of employee exposure to lead. These records will be used by employers, employees, physicians, and the Government to ensure that employees are not being harmed by exposure to lead. For additional information, see the related 60-day preclearance notice published in the Federal Register at 74 FR 23209 on May 18, 2009. PRA documentation prepared in association with the preclearance notice is available on http://www.regulations.gov under docket number OSHA-2009-0009.

Agency: Occupational Safety and Health Administration.

Type of Review: Extension without change of a previously approved collection.

Title of Collection: Lead in Construction Standard (29 CFR 1926.62)

OMB Control Number: 1218-0189.

Affected Public: Business or other for-profits.

Estimated Number of Respondents: 136,484.

Estimated Total Annual Burden Hours: 1,363,803.

Estimated Total Annual Costs Burden (excludes hourly wage costs): $63,254,826.

Description: The Lead in Construction Standard standard requires employers to train employees about the hazards of lead, monitor employee exposure, provide medical surveillance, and maintain accurate records of employee exposure to lead. These records will be used by employers, employees, physicians and the Government to ensure that employees are not harmed by exposure to lead in the workplace. For additional information, see the related 60-day preclearance notice published in the Federal Register at 74 FR 23210 on May 18, 2009. PRA documentation prepared in association with the preclearance notice is available on http://www.regulations.gov under docket number OSHA-2009-0008.

Darrin A. King,
Departmental Clearance Officer.

[FR Doc. E9-18069 Filed 7-28-09; 8:45 am]

BILLING CODE 4510-26-P